DEPARTMENT OF TRANSPORTATION

Federal Aviation Administration

RTCA Special Committee 172; Future Air-Ground Communications in the VHF Aeronautical Data Band (118-137 MHz)

Pursuant to section 10(a)(2) of the Federal Advisory Committee Act (Pub. L. 92-463, 5 U.S.C., Appendix 2), notice is hereby given for Special Committee 172 meeting to be held February 27-March 1, 2001, starting at 9:00 a.m. The meeting will be held at RTCA, 1140 Connecticut Avenue, NW., Suite 1020, Washington, DC 20036.

The agenda will include: February 27: Plenary Session Convenes; (1) Introductory Remarks; (2) Review Meeting Agenda; (3) Review Previous Meeting Minutes; (4) Working Group (WG)-2 Convenes to work on Minimum Aviation System Performance Standards (MASPS); (5) WG-3 Convenes to work on VHF Data Link 2 and 3 Minimum Operational Performance Standards (MOPS). February 28: (6) Working Group 3 continues. March 1: Plenary Sessions Reconvenes: (7) Review ICAO Aeronautical Mobile Communications Panel (AMCP) Activities; (8) Report on Next Generation Communications (NEXCOM) Advisory Rulemaking Committee and other FAA digital activities; (9) Report on Airlines Electronic Engineering Committee, Systems Architecture Interfaces work on NEXCOM; (10) Review Status of EUROCAE WG-47; (11) Other Business; (12) Date and Location of Next Meeting; (13) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on February 1, 2001.
Janice L. Peters,
Designated Official.

[FR Doc. 01-3311 Filed 2-7-01; 8:45 am]

BILLING CODE 4910-13-M